DEPARTMENT OF HEALTH AND HUMAN SERVICES

Indian Health Service

Domestic Violence Prevention: Forensic Healthcare Services

Announcement Type: New.

Funding Announcement Number: HHS-2022-IHS-FHC-0001.

Assistance Listing (Catalog of Federal Domestic Assistance or CFDA) Number: 93.653.

Key Dates

Application Deadline Date: February 2, 2022.

Earliest Anticipated Start Date: March 21, 2022.

I. Funding Opportunity Description

Statutory Authority

The Indian Health Service (IHS) is accepting applications for grants that will develop and/or expand Forensic Healthcare (FHC) services. This program was first established by the Omnibus Appropriations Act of 2009, Public Law 111-8, 123 Stat. 524, 735, as a component of the Domestic Violence Prevention Initiative, and continued in the annual appropriations acts since that time. This program is authorized under the Snyder Act, 25 U.S.C. 13; and the Indian Health Care Improvement Act, 25 U.S.C. 1665a, 1665m. This program is described in the Assistance Listings located at https://sam.gov/content/home (formerly known as Catalog of Federal Domestic Assistance) under 93.653.

Background

The Division of Behavioral Health (DBH) serves as the primary source of national advocacy, policy development, management and administration of behavioral health, alcohol and substance abuse, and family violence prevention programs. Domestic and sexual violence including child maltreatment are a public health concern among the American Indian/Alaska Native (AI/AN) population. American Indians and Alaska Natives experience high rates of sexual violence according to a 2016 publication from the Department of Justice. Previously, forensic health care functions were funded under Purpose Area 2 of the Domestic Violence Prevention (DVP) program, formerly known as the Domestic Violence Prevention Initiative. This announcement separates forensic health care functions into a distinct program. The FHC program will address access to health care needed for AI/AN victims of domestic and sexual violence. The IHS supports comprehensive efforts to develop and/or expand FHC services to provide treatment, intervention, and prevention in order to address the needs of victims impacted by domestic violence, sexual assault, stalking, sexual exploitation/human trafficking, and child maltreatment. The FHC program is aligned with the national DVP goals, https://www.ihs.gov/dvpi/aboutdvp/.

Purpose

The purpose of this IHS grant is to provide access to treatment for AI/AN victims of domestic and sexual violence by supporting the development of and/or expansion of FHC services that are culturally appropriate and trauma-informed. The intent is to impact FHC services in each IHS Area (provided by Tribes, Tribal organizations and Urban Indian organizations). This also includes promoting treatment, intervention, and prevention efforts for the social, spiritual, and emotional well-being of victims, including victims of child maltreatment. To address domestic and sexual violence, including victims of sexual exploitation/human trafficking, applicants are encouraged to use Multidisciplinary Team (MDT) and Sexual Assault Response Team (SART) approaches. Using these types of team approaches is crucial—especially among local, state, and Federal agencies that includes health care providers, law enforcement, child protective services, social services, legal services, domestic violence coalitions, behavioral health services, and victim advocacy. The MDT/SART are community-based approaches in responding to sexual assault, intimate partner violence, and sexual abuse victims. Without the advantage of a team approach method, a program is more likely to fail. Improving collaboration through formal inter-agency agreements can improve the response time for sexual assault victims.

II. Award Information

Funding Instrument—Grant

Estimated Funds Available

The total funding identified for fiscal year (FY) 2022 is approximately $2,500,000. Individual award amounts for the first budget year are anticipated to be $250,000. The funding available for competing and subsequent continuation awards issued under this announcement is subject to the availability of appropriations and budgetary priorities of the agency. The IHS is under no obligation to make awards that are selected for funding under this announcement.

Anticipated Number of Awards

Approximately 10 awards will be issued under this program announcement with up to one award set aside for an eligible Urban Indian organization.

Period of Performance

The period of performance is for 5 years.

III. Eligibility Information

1. Eligibility

To be eligible for this new FY 2022 funding opportunity, applicants must be one of the following as defined by 25 U.S.C. 1603:

• A federally recognized Indian Tribe as defined by 25 U.S.C. 1603(14). The term “Indian Tribe” means any Indian Tribe, band, nation, or other organized group or community, including any Alaska Native village or group, or regional or village corporation as defined in or established pursuant to the Alaska Native Claims Settlement Act (85 Stat. 688) [43 U.S.C. 1601 et seq.], which is recognized as eligible for the special programs and services provided by the United States to Indians because of their status as Indians.

• A Tribal organization as defined by 25 U.S.C. 1603(26). The term “Tribal organization” has the meaning given the term in section 4 of the Indian Self-Determination and Education Assistance Act (25 U.S.C. 5304(l)): “Tribal organization” means the recognized governing body of any Indian Tribe; any legally established organization of Indians which is controlled, sanctioned, or chartered by such governing body or which is democratically elected by the adult members of the Indian community to be served by such organization and which includes the maximum participation of Indians in all phases of its activities: Provided that, in any case where a contract is let or grant made to an organization to perform services benefiting more than one Indian Tribe, the approval of each such Indian Tribe shall be a prerequisite to the letting or making of such contract or grant. Applicant shall submit letters of support and/or Tribal Resolutions from the Tribes to be served.

• An Urban Indian organization, as defined by 25 U.S.C. 1603(29). The term “Urban Indian organization” means a nonprofit corporate body situated in an urban center, governed by an urban Indian controlled board of directors, and providing for the maximum participation of all interested Indian groups and individuals, which body is capable of legally cooperating with other public and private entities for the purpose of performing the activities described in 25 U.S.C. 1653(a). Applicants must provide proof of nonprofit status with the application, e.g., 501(c)(3).

The program office will notify any applicants deemed ineligible.

Note: Please refer to Section IV.2 (Application and Submission Information/Subsection 2, Content and Form of Application Submission) for additional proof of applicant status documents required, such as Tribal Resolutions, proof of nonprofit status, etc.

2. Cost Sharing or Matching

The IHS does not require matching funds or cost sharing for grants or cooperative agreements.

3. Other Requirements

Applications with budget requests that exceed the highest dollar amount outlined under Section II Award Information, Estimated Funds Available, or exceed the period of performance outlined under the Section II Award Information, Period of Performance, are considered not responsive and will not be reviewed. The Division of Grants Management (DGM) will notify the applicant.

Additional Required Documentation

Tribal Resolution

The DGM must receive an official, signed Tribal Resolution prior to issuing a Notice of Award (NoA) to any applicant selected for funding. An Indian Tribe or Tribal organization that is proposing a project affecting another Indian Tribe must include resolutions from all affected Tribes to be served. However, if an official, signed Tribal Resolution cannot be submitted with the application prior to the application deadline date, a draft Tribal Resolution must be submitted with the application by the deadline date in order for the application to be considered complete and eligible for review. The draft Tribal Resolution is not in lieu of the required signed resolution but is acceptable until a signed resolution is received. If an application without a signed Tribal Resolution is selected for funding, the applicant will be contacted by the Grants Management Specialist (GMS) listed in this funding announcement and given 90 days to submit an official, signed Tribal Resolution to the GMS. If the signed Tribal Resolution is not received within 90 days, the award will be forfeited.

Tribes organized with a governing structure other than a Tribal council may submit an equivalent document commensurate with their governing organization.

Proof of Nonprofit Status

Organizations claiming nonprofit status must submit a current copy of the 501(c)(3) Certificate with the application.

IV. Application and Submission Information

1. Obtaining Application Materials

The application package and detailed instructions for this announcement are available at https://www.Grants.gov.

Please direct questions regarding the application process to Mr. Paul Gettys at (301) 443-2114 or (301) 443-5204.

2. Content and Form Application Submission

Mandatory documents for all applicants include:

• Abstract (one page) summarizing the project.

• Application forms:

1. SF-424, Application for Federal Assistance.

2. SF-424A, Budget Information—Non-Construction Programs.

3. SF-424B, Assurances—Non-Construction Programs.

• Project Narrative (not to exceed 15 pages). See Section IV.2.A, Project Narrative, for additional instructions.

1. Background information on the organization.

2. Proposed scope of work, objectives, and activities that provide a description of what the applicant plans to accomplish.

• Budget Justification and Narrative (not to exceed four pages). See Section IV.2.B, Budget Narrative for instructions.

• Work plan with timeline, limit one page.

• Tribal Resolution(s) or Tribal Letter of Support (only required for Tribes and Tribal organizations).

• Letters of Commitment.

1. For all applicants: From local organizational partners.

2. For all applicants: From community partners.

3. For Tribal organizations: From the board of directors (or relevant equivalent).

4. For Urban Indian organizations: From the board of directors (or relevant equivalent).

• 501(c)(3) Certificate where applicable.

• Biographical sketches for all Key Personnel.

• Contractor/Consultant resumes or qualifications and scope of work.

• Disclosure of Lobbying Activities (SF-LLL), if applicant conducts reportable lobbying.

• Certification Regarding Lobbying (GG-Lobbying Form).

• Copy of current Negotiated Indirect Cost rate (IDC) agreement (required in order to receive IDC).

• Organizational Chart (optional).

• Documentation of current Office of Management and Budget (OMB) Financial Audit.

Acceptable forms of documentation include:

1. Email confirmation from Federal Audit Clearinghouse (FAC) that audits were submitted; or

2. Face sheets from audit reports. Applicants can find these on the FAC website at https://harvester.census.gov/facdissem/Main.aspx.

Public Policy Requirements

All Federal public policies apply to IHS grants and cooperative agreements. Pursuant to 45 CFR 80.3(d), an individual shall not be deemed subjected to discrimination by reason of their exclusion from benefits limited by Federal law to individuals eligible for benefits and services from the IHS. See https://www.hhs.gov/grants/grants/grants-policies-regulations/index.html.

Requirements for Project and Budget Narratives

A. Project Narrative

This narrative should be a separate document that is no more than 15 pages and must: (1) Have consecutively numbered pages; (2) use black font 12 points or larger; (3) be single-spaced; and (4) be formatted to fit standard letter paper (8½ x 11 inches).

Be sure to succinctly answer all questions listed under the evaluation criteria (refer to Section V.1, Evaluation Criteria) and place all responses and required information in the correct section noted below or they will not be considered or scored. If the narrative exceeds the page limit, the application will be considered not responsive and not be reviewed. The 15-page limit for the narrative does not include the work plan with timeline, standard forms, Tribal Resolutions, budget, budget justifications, narratives, and/or other items or requested attachments.

There are four parts to the Project Narrative:

Part 1—Statement of Need

Part 2—Program Plan

Part 3—Organizational Capacity

Part 4—Program Evaluation

Part 1: Statement of Need (Limit—2 Pages)

The project narrative must include the statement of need that addresses the nature and scope of the problem (e.g., limited or no access to forensic health care). Refer to Section V.1.A, Evaluation Criteria—Statement of Need for details.

Part 2: Program Plan (Limit—9 Pages)

Describe the proposed program plan, an outline of goal(s), proposed implementation of the required five objectives and activities. Refer to Section V.1.B, Evaluation Criteria—Program Plan for details.

Part 3: Organizational Capacity (Limit—2 Pages)

Describe the applicant's management capability and experience in administering grants. Refer to Section V.1.C, Evaluation Criteria—Organizational Capacity.

Part 4: Program Evaluation (Limit—2 Pages)

Describe how you plan to collect data for the proposed project activities and identify what type of evaluation method will be used. Applicants are encouraged to partner with their Tribal Epidemiology Center (TEC) or Urban Epidemiology Center (for urban applicants) and should describe their plan for coordination and collaboration with the TEC. Refer to Section V.1.D, Evaluation Criteria—Program Evaluation.

B. Budget Narrative (Limit—4 Pages)

Provide a budget narrative that explains the amounts requested for each line item of the budget from the SF-424A (Budget Information for Non-Construction Programs). The budget narrative document can include a more detailed spreadsheet than is provided by the SF-424A. The budget narrative should specifically describe how each item will support the achievement of proposed objectives. Be very careful about showing how each item in the “Other” category is justified. For subsequent budget years (see Multi-Year Project Requirements in Section V.1, Application Review Information, Evaluation Criteria), the narrative should highlight the changes from the first year or clearly indicate that there are no substantive budget changes during the period of performance. Do NOT use the budget narrative to expand the project narrative.

3. Submission Dates and Times

Applications must be submitted through Grants.gov by 11:59 p.m. Eastern Time on the Application Deadline Date. Any application received after the application deadline will not be accepted for review. Grants.gov will notify the applicant via email if the application is rejected.

If technical challenges arise and assistance is required with the application process, contact Grants.gov Customer Support (see contact information at https://www.grants.gov). If problems persist, contact Mr. Paul Gettys (Paul.Gettys@ihs.gov), Acting Director, DGM, by telephone at (301) 443-2114 or (301) 443-5204. Please be sure to contact Mr. Gettys at least 10 days prior to the application deadline. Please do not contact the DGM until you have received a Grants.gov tracking number. In the event you are not able to obtain a tracking number, call the DGM as soon as possible.

The IHS will not acknowledge receipt of applications.

4. Intergovernmental Review

Executive Order 12372 requiring intergovernmental review is not applicable to this program.

5. Funding Restrictions

• Pre-award costs are allowable up to 90 days before the start date of the award provided the costs are otherwise allowable if awarded. Pre-award costs are incurred at the risk of the applicant.

• The available funds are inclusive of direct and indirect costs.

• Only one grant will be awarded per applicant.

6. Electronic Submission Requirements

All applications must be submitted via Grants.gov. Please use the https://www.Grants.gov website to submit an application. Find the application by selecting the “Search Grants” link on the homepage. Follow the instructions for submitting an application under the Package tab. No other method of application submission is acceptable.

If the applicant cannot submit an application through Grants.gov, a waiver must be requested. Prior approval must be requested and obtained from Mr. Paul Gettys, Acting Director, DGM. A written waiver request must be sent to GrantsPolicy@ihs.gov with a copy to Paul.Gettys@ihs.gov. The waiver request must: (1) Be documented in writing (emails are acceptable) before submitting an application by some other method, and (2) include clear justification for the need to deviate from the required application submission process.

Once the waiver request has been approved, the applicant will receive a confirmation of approval email containing submission instructions. A copy of the written approval must be included with the application that is submitted to the DGM. Applications that are submitted without a copy of the signed waiver from the Acting Director of the DGM will not be reviewed. The Grants Management Officer of the DGM will notify the applicant via email of this decision.

Applications submitted under waiver must be received by the DGM no later than 5:00 p.m. Eastern Time on the Application Deadline Date. Late applications will not be accepted for processing. Applicants that do not register for both the System for Award Management (SAM) and Grants.gov and/or fail to request timely assistance with technical issues will not be considered for a waiver to submit an application via alternative method.

Please be aware of the following:

• Please search for the application package in https://www.Grants.gov by entering the Assistance Listing (CFDA) number or the Funding Opportunity Number. Both numbers are located in the header of this announcement.

• If you experience technical challenges while submitting your application, please contact Grants.gov Customer Support (see contact information at https://www.Grants.gov).

• Upon contacting Grants.gov, obtain a tracking number as proof of contact. The tracking number is helpful if there are technical issues that cannot be resolved and a waiver from the agency must be obtained.

• Applicants are strongly encouraged not to wait until the deadline date to begin the application process through Grants.gov as the registration process for SAM and Grants.gov could take up to 20 working days.

• Please follow the instructions on Grants.gov to include additional documentation that may be requested by this funding announcement.

• Applicants must comply with any page limits described in this funding announcement.

• After submitting the application, the applicant will receive an automatic acknowledgment from Grants.gov that contains a Grants.gov tracking number. The IHS will not notify the applicant that the application has been received.

Dun and Bradstreet (D&B) Data Universal Numbering System (DUNS)

Applicants and grantee organizations are required to obtain a DUNS number and maintain an active registration in the SAM database. The DUNS number is a unique 9-digit identification number provided by D&B that uniquely identifies each entity. The DUNS number is site specific; therefore, each distinct performance site may be assigned a DUNS number. Obtaining a DUNS number is easy, and there is no charge. To obtain a DUNS number, please access the request service through https://fedgov.dnb.com/webform, or call (866) 705-5711.

The Federal Funding Accountability and Transparency Act of 2006, as amended (“Transparency Act”), requires all HHS recipients to report information on sub-awards. Accordingly, all IHS grantees must notify potential first-tier sub-recipients that no entity may receive a first-tier sub-award unless the entity has provided its DUNS number to the prime grantee organization. This requirement ensures the use of a universal identifier to enhance the quality of information available to the public pursuant to the Transparency Act.

System for Award Management (SAM)

Organizations that are not registered with SAM must have a DUNS number first, then access the SAM online registration through the SAM home page at https://sam.gov (U.S. organizations will also need to provide an Employer Identification Number from the Internal Revenue Service that may take an additional 2-5 weeks to become active). Please see SAM.gov for details on the registration process and timeline. Registration with the SAM is free of charge but can take several weeks to process. Applicants may register online at https://sam.gov.

Additional information on implementing the Transparency Act, including the specific requirements for DUNS and SAM, are available on the DGM Grants Management, Policy Topics web page at https://www.ihs.gov/dgm/policytopics/.

V. Application Review Information

Possible points assigned to each section are noted in parentheses. The project narrative and budget narrative should include only the first year of activities; information for multi-year projects should be included as a separate document. See “Multi-year Project Requirements” at the end of this section for more information. The project narrative should be written in a manner that is clear to outside reviewers unfamiliar with prior related activities of the applicant. It should be well organized, succinct, and contain all information necessary for reviewers to understand the project fully. Attachments requested in the criteria do not count toward the page limit for the narratives. Points will be assigned to each evaluation criteria adding up to a total of 100 possible points. Points are assigned as follows:

1. Evaluation Criteria

A. Statement of Need (20 Points)

The project narrative must include a statement of need that describes the background knowledge and context on the issue of the problem (e.g., limited and/or lack of access to care for victims of AI/AN) affected by domestic and sexual violence, including children, and victims of sexual exploitation/human trafficking. The applicant should use data to provide evidence that the problem exits, describe the size of the problem, and the effects of the problem on the target population. The data documenting need may come from a variety of qualitative and quantitative sources. Examples of data sources to be included are local epidemiologic data from Trends in Indian Health and State data, national data from My Tribal Area by the U.S Census Bureau; Centers for Disease Control and Prevention reports; Department of Justice; and Substance Abuse and Mental Health Services Administration, National Survey on Drug Use and Health.

1. Describe the needs and conditions of your priority population.

2. Describe the need to support the development of and/or expansion of FHC services.

3. Provide demographics of the community (e.g., race, ethnicity, federally recognized Tribe, language, age, socioeconomic status, and other relevant factors, such as literacy).

4. Provide incidence and prevalence rates on domestic and sexual violence including children.

5. Describe the existing service gaps, barriers, and other systemic challenges related to the need for program planning and capacity building.

B. Program Plan (35 Points)

Using the five objectives, describe the purpose of the proposed program plan in the narrative, a work plan, and timeline that clearly outlines the goal(s), five objectives, and activities.

Objective 1: Strengthen or increase access to quality medical Forensic Healthcare to victims of domestic and sexual violence including children.

1. Describe your plan to create a MDT and SART team from local, state, and Federal agencies that includes health care providers, law enforcement, child protective services, social service, legal service, coalitions, behavioral health, and victim advocacy.

2. Describe your plan to establish health system policies for sexual assault and domestic violence, including child maltreatment, and sexual exploitation/human trafficking.

3. Describe your plan to incorporate culturally-sensitive screening processes and trauma-informed forensic examinations.

4. Describe your plan to create a quality assessment and performance improvement mechanism to provide professional review of service quality.

Objective 2: Foster coalitions and networks to improve coordination and collaboration among partners to ensure adequate services exist either on-site or by referral for victims of domestic and sexual violence, sexual exploitation/human trafficking, and child maltreatment 24 hours per day/7 days per week year round.

1. Describe your plan to create a MDT and SART team to ensure adequate services exist either on-site or by referral for victims of domestic and sexual violence 24/7 year round.

2. Describe your plan to establish partnerships among local, state, and Federal agencies to strengthen the system of care.

Objective 3: Promote education, training, and community resources.

1. Describe your plan to raise awareness about availability of forensic examination and the benefits of examinations for sexual assault, sexual abuse, and intimate partner violence examinations.

2. Describe your plan to train health care workforce at the systems level and support initial and ongoing forensic examiner education (e.g., intimate partner violence, strangulation, trauma-informed care, traumatic brain injury, sexual assault, child maltreatment, elder abuse, sexual exploitation/human trafficking).

3. Describe the project plan to identify and disseminate relevant local resources and information to be shared with victims and/or local partners regarding seeking services that require immediate attention (e.g., care coordination services that increase access to timely forensic examination services, including follow-up visits, and access to HIV, STD, pregnancy prophylaxis, and aftercare services).

4. Describe your plan to create public health messages about access and availability of forensic health care services being offered using the following resources: Radio; TV; billboards; advertisements; patient education brochures; and social media.

5. Describe how your project will increase educational awareness and services that address Missing and Murdered AI/ANs, including support services for family members of victims (e.g., community support groups, trainings on ambiguous and traumatic loss, and community-based trainings that highlight at-risk groups and protection and prevention activities).

Objective 4: Integrate at least one program/intervention that is an evidence-based practice, or known as a promising practice, and may be integrated or coordinated with traditional practices and/or faith-based services to facilitate the social and emotional well-being of victims and their families.

1. Describe your chosen practice that is appropriate to achieve the desired outcomes.

2. Describe your plan to modify/adapt your proposed practice to meet the goal(s) and objectives of the project and why changes will improve the outcomes.

3. Describe your training needs or plans to successfully implement the proposed practice.

Objective 5: Develop a process and a formal plan for sustainability of these objectives and activities beyond the life of this grant.

1. Describe your plan for sustainability of these objectives and activities beyond the life of the grant.

C. Organizational Capacity and Staffing/Administration (15 Points)

1. Describe your management's capability and experience in administering grants and projects, and identify your department/division that will administer this project.

2. Describe your experience in creating and implementing a MDT and SART team to expand FHC services.

3. Describe your program's experience and capacity to provide FHC services to the community.

4. Describe the resources available for your proposed project (e.g., facilities, equipment, information technology systems, and financial management systems).

5. Describe how your project continuity will be maintained if/when there is a change in the operational environment (e.g., staff turnover, change in project leadership, change in elected officials) to ensure project stability over the life of the grant.

6. Describe the staff positions showing the role and level of effort (percent) committed for each position. Forensic health care services require a coordinated response, however successful grant applicants should identify and include a position description for the project lead/full-time coordinator who will serve as the primary point of contact. For example, if the project lead also serves as the forensic nurse examiner, please indicate the expected percent of time that will be committed to grant objectives and outcomes. Include a biographical sketch for those individuals in key positions that are identified and currently on staff. Each biographical sketch should not exceed one page and should be submitted as Other Attachments. Do not include any of the following in the biographical sketch:

• Personally Identifiable Information (i.e., SSN, home address, etc.);

• Resumes; or

• Curriculum Vitae.

D. Program Evaluation (20 Points)

Program Evaluation will require grantee submission of annual progress reports through a web-based Behavioral Health Reporting portal system. Applicants are expected to collect data within their communities on prevalence rates of domestic violence, sexual assault, sexual exploitation/human trafficking, and child maltreatment. Progress reports will include the compilation of quantitative data (e.g., number served; screenings completed, etc.) and qualitative or narrative (text) data. Reporting elements may include data from local community-based and evidence-based programs pertaining to activities, processes, and outcomes such as performance measures and other data relevant to evaluation outcomes including intended results (i.e., impact and outcomes).

In addition to the annual progress reports, the IHS will compile and provide aggregate program statistics including associated service unit-level Government Performance Results Act (GPRA) health care facility data available in the National Data Warehouse. Each applicant should prioritize screening efforts as an effective tool in identifying women at risk of domestic violence so that these individuals can be referred for appropriate services. Therefore, the IHS will monitor and collect available service unit GPRA data reporting the proportion of AI/AN women ages 14-46 who have been screened for domestic violence/intimate partner violence for all health care facilities associated with the awardee. For additional information regarding the IHS GPRA, see https://www.ihs.gov/crs/gprareporting/. Comprehensive information about CRS software and logic is available at https://www.ihs.gov/crs/.

1. Describe your plan on gathering data, including data related to evidence-based programs and interventions proposed, how variables will be measured and what method will be used, and how the data will be used for quality improvement and sustainability of program.

2. Describe your plan on collaborating with your regional TEC to complete evaluation efforts.

3. Describe how you will prioritize screening efforts as a tool in identifying AI/AN women ages 14-46 who are at risk for intimate partner violence/domestic violence (IPV/DV) so that these individuals can be referred for appropriate services and data can be collected for IHS GPRA measures related to IPV/DV.

4. Describe how you will prioritize screening efforts as a tool in identifying AI/AN who are at risk for sexual exploitation/human trafficking so that these individuals can be referred for appropriate services.

5. Describe your plan to establish necessary data-sharing agreements that will be used in support of these activities.

6. Describe your plan to collect data on number of examinations and refusals, screening for strangulation and traumatic brain injuries, and sexual exploitation/human trafficking.

E. Budget and Budget Narrative (10 Points)

The budget must match the program and work plan described in the program narrative for the first budget year expenses only.

1. Create a budget narrative and a line item budget that are aligned with your goal(s), objectives, and activities listed in the program and work plan described in the project narrative for Year 1.

2. Include travel funds for your project director and coordinator to attend the first grantee meeting.

Multi-Year Project Requirements

Applications must include a brief project narrative and budget (one additional page per year) addressing the developmental plans for each additional year of the project. This attachment will not count as part of the project narrative or the budget narrative.

Additional documents can be uploaded as Other Attachments in Grants.gov. These can include:

• Work plan, timeline, and logic model for the program plan.

• Position descriptions for key staff.

• Consultant or contractor proposed scope of work and letter of commitment (if applicable).

• Current Indirect Cost Rate Agreement.

• Organizational chart.

• Abstract.

• Map of area identifying project location(s).

2. Review and Selection

Each application will be prescreened for eligibility and completeness as outlined in the funding announcement. Applications that meet the eligibility criteria shall be reviewed for merit by the Objective Review Committee (ORC) based on evaluation criteria. Incomplete applications and applications that are not responsive to the administrative thresholds (budget limit, project period limit) will not be referred to the ORC and will not be funded. The applicant will be notified of this determination.

Applicants must address all program requirements and provide all required documentation.

3. Notifications of Disposition

All applicants will receive an Executive Summary Statement from the IHS DBH within 30 days of the conclusion of the ORC outlining the strengths and weaknesses of their application. The summary statement will be sent to the Authorizing Official identified on the face page (SF-424) of the application.

A. Award Notices for Funded Applications

The NoA is the authorizing document for which funds are dispersed to the approved entities and reflects the amount of Federal funds awarded, the purpose of the grant, the terms and conditions of the award, the effective date of the award, and the budget/project period. Each entity approved for funding must have a user account in GrantSolutions in order to retrieve the NoA. Please see the Agency Contacts list in Section VII for the systems contact information.

B. Approved but Unfunded Applications

Approved applications not funded due to lack of available funds will be held for one year. If funding becomes available during the course of the year, the application may be reconsidered.

Note: Any correspondence other than the official NoA executed by an IHS grants management official announcing to the project director that an award has been made to their organization is not an authorization to implement their program on behalf of the IHS.

VI. Award Administration Information

1. Administrative Requirements

Awards issued under this announcement are subject to, and are administered in accordance with, the following regulations and policies:

A. The criteria as outlined in this program announcement.

B. Administrative Regulations for Grants:

• Uniform Administrative Requirements, Cost Principles, and Audit Requirements for HHS Awards currently in effect or implemented during the period of award, other Department regulations and policies in effect at the time of award, and applicable statutory provisions. At the time of publication, this includes 45 CFR part 75, at https://www.govinfo.gov/content/pkg/CFR-2020-title45-vol1/pdf/CFR-2020-title45-vol1-part75.pdf.

• Please review all HHS regulatory provisions for Termination at 45 CFR 75.372, at https://www.ecfr.gov/cgi-bin/retrieveECFR?gp&amp;SID=2970eec67399fab1413ede53d7895d99&amp;mc=true&amp;n=pt45.1.75&amp;r=PART&amp;ty=HTML&amp;se45.1.75_1372#se45.1.75_1372.

C. Grants Policy:

• HHS Grants Policy Statement, Revised January 2007, at http://www.hhs.gov/sites/default/files/grants/grants/policies-regulations/hhsgps107.pdf.

D. Cost Principles:

• Uniform Administrative Requirements for HHS Awards, “Cost Principles,” at 45 CFR part 75 subpart E.

E. Audit Requirements:

• Uniform Administrative Requirements for HHS Awards, “Audit Requirements,” at 45 CFR part 75 subpart F.

F. As of August 13, 2020, 2 CFR 200 was updated to include a prohibition on certain telecommunications and video surveillance services or equipment. This prohibition is described in 2 CFR 200.216. This will also be described in the terms and conditions of every IHS grant and cooperative agreement awarded on or after August 13, 2020.

2. Indirect Costs

This section applies to all recipients that request reimbursement of indirect costs (IDC) in their application budget. In accordance with HHS Grants Policy Statement, Part II-27, the IHS requires applicants to obtain a current IDC rate agreement and submit it to the DGM prior to the DGM issuing an award. The rate agreement must be prepared in accordance with the applicable cost principles and guidance as provided by the cognizant agency or office. A current rate covers the applicable grant activities under the current award's budget period. If the current rate agreement is not on file with the DGM at the time of award, the IDC portion of the budget will be restricted. The restrictions remain in place until the current rate agreement is provided to the DGM.

Per 45 CFR 75.414(f) Indirect (F&A) costs, “any non-Federal entity (NFE) [i.e., applicant] that has never received a negotiated indirect cost rate, . . . may elect to charge a de minimis rate of 10 percent of modified total direct costs which may be used indefinitely. As described in Section 75.403, costs must be consistently charged as either indirect or direct costs, but may not be double charged or inconsistently charged as both. If chosen, this methodology once elected must be used consistently for all Federal awards until such time as the NFE chooses to negotiate for a rate, which the NFE may apply to do at any time.”

Electing to charge a de minimis rate of 10 percent only applies to applicants that have never received an approved negotiated indirect cost rate from HHS or another cognizant federal agency. Applicants awaiting approval of their indirect cost proposal may request the 10 percent de minimis rate. When the applicant chooses this method, costs included in the indirect cost pool must not be charged as direct costs to the grant.

Available funds are inclusive of direct and appropriate indirect costs. Approved indirect funds are awarded as part of the award amount, and no additional funds will be provided.

Generally, IDC rates for IHS grantees are negotiated with the Division of Cost Allocation at https://rates.psc.gov/ or the Department of the Interior (Interior Business Center) at https://ibc.doi.gov/ICS/tribal. For questions regarding the indirect cost policy, please call the Grants Management Specialist listed under “Agency Contacts” or the main DGM office at (301) 443-5204.

3. Reporting Requirements

The grantee must submit required reports consistent with the applicable deadlines. Failure to submit required reports within the time allowed may result in suspension or termination of an active grant, withholding of additional awards for the project, or other enforcement actions such as withholding of payments or converting to the reimbursement method of payment. Continued failure to submit required reports may result in the imposition of special award provisions and/or the non-funding or non-award of other eligible projects or activities. This requirement applies whether the delinquency is attributable to the failure of the awardee organization or the individual responsible for preparation of the reports. Per DGM policy, all reports must be submitted electronically by attaching them as a “Grant Note” in GrantSolutions. Personnel responsible for submitting reports will be required to obtain a login and password for GrantSolutions. Please see the Agency Contacts list in Section VII for the systems contact information.

The reporting requirements for this program are noted below.

A. Progress Reports

Program progress reports are required annually. The progress reports are due within 30 days after the reporting period ends (specific dates will be listed in the NoA Terms and Conditions). Progress reports are required to be submitted via the IHS behavioral health online data portal and GrantSolutions. These reports must include a brief comparison of actual accomplishments to the goals established for the period, a summary of progress to date or, if applicable, provide sound justification for the lack of progress, in addition to other information requested by the DBH. A final report must be submitted within 90 days of expiration of the period of performance.

B. Financial Reports

Federal Cash Transaction Reports are due 30 days after the close of every calendar quarter to the Payment Management Services at https://pms.psc.gov. Failure to submit timely reports may result in adverse award actions blocking access to funds.

Federal Financial Reports are due 30 days after the end of each budget period, and a final report is due 90 days after the end of the period of performance.

Grantees are responsible and accountable for reporting accurate information on all required reports: The Progress Reports, the Federal Cash Transaction Report, and the Federal Financial Report.

C. Data Collection and Reporting

Program Evaluation will require grantee submission of annual progress reports through a web-based Behavioral Health Reporting portal system. Applicants are expected to collect data within their communities on prevalence rates of domestic violence, sexual assault, and child maltreatment. Progress reports will include the compilation of quantitative data (e.g., number served, screenings completed, etc.) and qualitative or narrative (text) data. Reporting elements may include data from local community-based and evidence-based programs pertaining to activities, processes, and outcomes, such as performance measures and other data relevant to evaluation outcomes including intended results (i.e., impact and outcomes).

In addition to the annual progress reports, the IHS will compile and provide aggregate program statistics including associated service unit GPRA health care facility data available in the National Data Warehouse. Each applicant should prioritize screening efforts as an effective tool in identifying women at risk of domestic violence so that these individuals can be referred for appropriate services. Therefore, the IHS will monitor and collect available service unit GPRA data reporting the proportion of AI/AN women ages 14-46 who have been screened for domestic violence/intimate partner violence for all health care facilities associated with the community awarded. For additional information regarding the IHS GPRA, see https://www.ihs.gov/crs/gprareporting/. Comprehensive information about CRS software and logic is available at https://www.ihs.gov/crs/.

D. Federal Sub-Award Reporting System (FSRS)

This award may be subject to the Transparency Act sub-award and executive compensation reporting requirements of 2 CFR part 170.

The Transparency Act requires the OMB to establish a single searchable database, accessible to the public, with information on financial assistance awards made by Federal agencies. The Transparency Act also includes a requirement for recipients of Federal grants to report information about first-tier sub-awards and executive compensation under Federal assistance awards.

The IHS has implemented a Term of Award into all IHS Standard Terms and Conditions, NoAs, and funding announcements regarding the FSRS reporting requirement. This IHS Term of Award is applicable to all IHS grant and cooperative agreements issued on or after October 1, 2010, with a $25,000 sub-award obligation threshold met for any specific reporting period.

For the full IHS award term implementing this requirement and additional award applicability information, visit the DGM Grants Management website at https://www.ihs.gov/dgm/policytopics/.

E. Compliance With Executive Order 13166 Implementation of Services Accessibility Provisions for All Grant Application Packages and Funding Opportunity Announcements

Should you successfully compete for an award, recipients of Federal financial assistance (FFA) from HHS must administer their programs in compliance with Federal civil rights laws that prohibit discrimination on the basis of race, color, national origin, disability, age and, in some circumstances, religion, conscience, and sex (including gender identity, sexual orientation, and pregnancy). This includes ensuring programs are accessible to persons with limited English proficiency and persons with disabilities. The HHS Office for Civil Rights provides guidance on complying with civil rights laws enforced by HHS. Please see https://www.hhs.gov/civil-rights/for-providers/provider-obligations/index.html and https://www.hhs.gov/civil-rights/for-individuals/nondiscrimination/index.html.

• Recipients of FFA must ensure that their programs are accessible to persons with limited English proficiency. For guidance on meeting your legal obligation to take reasonable steps to ensure meaningful access to your programs or activities by limited English proficiency individuals, see https://www.hhs.gov/civil-rights/for-individuals/special-topics/limited-english-proficiency/fact-sheet-guidance/index.html and https://www.lep.gov.

• For information on your specific legal obligations for serving qualified individuals with disabilities, including reasonable modifications and making services accessible to them, see https://www.hhs.gov/ocr/civilrights/understanding/disability/index.html.

• HHS funded health and education programs must be administered in an environment free of sexual harassment. See https://www.hhs.gov/civil-rights/for-individuals/sex-discrimination/index.html.

• For guidance on administering your program in compliance with applicable Federal religious nondiscrimination laws and applicable Federal conscience protection and associated anti-discrimination laws, see https://www.hhs.gov/conscience/conscience-protections/index.html and https://www.hhs.gov/conscience/religious-freedom/index.html.

F. Federal Awardee Performance and Integrity Information System (FAPIIS)

The IHS is required to review and consider any information about the applicant that is in the FAPIIS at https://www.fapiis.gov before making any award in excess of the simplified acquisition threshold (currently $250,000) over the period of performance. An applicant may review and comment on any information about itself that a Federal awarding agency previously entered. The IHS will consider any comments by the applicant, in addition to other information in FAPIIS, in making a judgment about the applicant's integrity, business ethics, and record of performance under Federal awards when completing the review of risk posed by applicants as described in 45 CFR 75.205.

As required by 45 CFR part 75 Appendix XII of the Uniform Guidance, NFEs are required to disclose in FAPIIS any information about criminal, civil, and administrative proceedings, and/or affirm that there is no new information to provide. This applies to NFEs that receive Federal awards (currently active grants, cooperative agreements, and procurement contracts) greater than $10,000,000 for any period of time during the period of performance of an award/project.

Mandatory Disclosure Requirements

As required by 2 CFR part 200 of the Uniform Guidance, and the HHS implementing regulations at 45 CFR part 75, the IHS must require an NFE or an applicant for a Federal award to disclose, in a timely manner, in writing to the IHS or pass-through entity all violations of Federal criminal law involving fraud, bribery, or gratuity violations potentially affecting the Federal award.

All applicants and recipients must disclose in writing, in a timely manner, to the IHS and to the HHS Office of Inspector General all information related to violations of Federal criminal law involving fraud, bribery, or gratuity violations potentially affecting the Federal award. 45 CFR 75.113.

Disclosures must be sent in writing to: U.S. Department of Health and Human Services, Indian Health Service, Division of Grants Management, ATTN: Paul Gettys, Acting Director, 5600 Fishers Lane, Mail Stop: 09E70, Rockville, MD 20857 (Include “Mandatory Grant Disclosures” in subject line), Office: (301) 443-5204, Fax: (301) 594-0899, Email: Paul.Gettys@ihs.gov.

AND

U.S. Department of Health and Human Services, Office of Inspector General, ATTN: Mandatory Grant Disclosures, Intake Coordinator, 330 Independence Avenue SW, Cohen Building, Room 5527, Washington, DC 20201, URL: https://oig.hhs.gov/fraud/report-fraud/ (Include “Mandatory Grant Disclosures” in subject line), Fax: (202) 205-0604, (Include “Mandatory Grant Disclosures” in subject line) or Email: MandatoryGranteeDisclosures@oig.hhs.gov.

Failure to make required disclosures can result in any of the remedies described in 45 CFR 75.371 Remedies for noncompliance, including suspension or debarment (see 2 CFR part 180 and 2 CFR part 376).

VII. Agency Contacts

1. Questions on the programmatic issues may be directed to: Audrey Solimon, Public Health Analyst, Indian Health Service, Division of Behavioral Health, 5600 Fishers Lane, Mail Stop: 08N34-A, Rockville, MD 20857, Phone: (301) 590-5421, Fax: (301) 594-6213, Email: Audrey.Solimon@ihs.gov.

2. Questions on grants management and fiscal matters may be directed to: Andrew Diggs, Grants Management Specialist, DGM, Indian Health Service, Division of Grants Management, 5600 Fishers Lane, Mail Stop: 09E70, Rockville, MD 20857, Phone: (301) 443-2241, Email: Andrew.Diggs@ihs.gov.

3. Questions on systems matters may be directed to: Paul Gettys, Acting Director, DGM, Indian Health Service, Division of Grants Management, 5600 Fishers Lane, Mail Stop: 09E70, Rockville, MD 20857, Phone: (301) 443-2114; or the DGM main line (301) 443-5204, Email: Paul.Gettys@ihs.gov.

VIII. Other Information

The Public Health Service strongly encourages all grant, cooperative agreement, and contract recipients to provide a smoke-free workplace and promote the non-use of all tobacco products. In addition, Public Law 103-227, the Pro-Children Act of 1994, prohibits smoking in certain facilities (or in some cases, any portion of the facility) in which regular or routine education, library, day care, health care, or early childhood development services are provided to children. This is consistent with the HHS mission to protect and advance the physical and mental health of the American people.

Elizabeth A. Fowler,
Acting Director, Indian Health Service.

[FR Doc. 2021-24025 Filed 11-3-21; 8:45 am]

BILLING CODE 4165-16-P